DEPARTMENT OF EDUCATION

National Institute on Disability and Rehabilitation Research—Disability and Rehabilitation Research Projects and Centers Program—Disability Rehabilitation Research Projects (DRRPs)

AGENCY: Office of Special Education and Rehabilitative Services, Department of Education.

ACTION: Notice of proposed priorities.

SUMMARY: The Assistant Secretary for Special Education and Rehabilitative Services proposes two funding priorities for the Disability and Rehabilitation Research Projects and Centers Program administered by the National Institute on Disability and Rehabilitation Research (NIDRR). Specifically, this notice proposes a priority for a DRRP for a Research and Technical Assistance Center on Vocational Rehabilitation Program Management, and a priority for a DRRP entitled Center on the Effective Delivery of Rehabilitation Technology by State Vocational Rehabilitation Agencies To Improve Employment Outcomes. The Assistant Secretary may use these priorities for competitions in fiscal year (FY) 2008 and later years. We take this action to focus research attention on areas of national need. We intend these priorities to improve rehabilitation services and employment outcomes for individuals with disabilities.

DATES: We must receive your comments on or before June 30, 2008.

ADDRESSES: Address all comments about these proposed priorities to Donna Nangle, U.S. Department of Education, 400 Maryland Avenue, SW., Room 6029, Potomac Center Plaza, Washington, DC 20202-2700. If you prefer to send your comments through the Internet, use the following address: donna.nangle@ed.gov.

You must include the priority title in the subject line of your electronic message.

FOR FURTHER INFORMATION CONTACT: Donna Nangle. Telephone: (202) 245-7462 or by e-mail: donna.nangle@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: This notice of proposed priorities (NPP) is in concert with President George W. Bush's New Freedom Initiative (NFI) and NIDRR's Final Long-Range Plan for FY 2005-2009 (Plan). Information about the NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation To Comment

We invite you to submit comments regarding these proposed priorities. To ensure that your comments have maximum effect in developing the notice of final priorities, we urge you to identify clearly the specific proposed priority or topic that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in Room 6029, 550 12th Street, SW., Potomac Center Plaza, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in one or more notices in the Federal Register. We will determine the final priorities after considering responses to this notice and other information available to the Department. This notice does not preclude us from proposing or using additional priorities, subject to meeting applicable rulemaking requirements.

Note: This notice does not solicit applications. In any year in which we choose to use these proposed priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

In this notice, we are proposing two priorities for DRRPs.

• Priority 1—Research and Technical Assistance Center on Vocational Rehabilitation Program Management.

• Priority 2—Center on the Effective Delivery of Rehabilitation Technology by State Vocational Rehabilitation Agencies to Improve Employment Outcomes.

Disability and Rehabilitation Research Projects (DRRP) Program

The purpose of the DRRP program is to improve the effectiveness of services authorized under the Rehabilitation Act of 1973, as amended (the Act), by developing methods, procedures, and rehabilitation technologies that advance a wide range of independent living and employment outcomes for individuals with disabilities, especially individuals with the most severe disabilities. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Proposed Priority 1—Research and Technical Assistance Center on Vocational Rehabilitation Program Management.

Background

The State Vocational Rehabilitation (VR) Services program, authorized by title I of the Rehabilitation Act of 1973, as amended (the Act), provides a wide range of services designed to help individuals with disabilities prepare for and engage in gainful employment. The program is carried out by VR agencies designated by each State. There are currently a total of 80 State agencies. Thirty-two States operate a “combined” agency serving individuals with disabilities, without regard to their disability. Twenty-four States operate a separate agency for individuals who are blind or visually impaired, and a “general” agency for individuals with all other disabilities.

State VR agencies face numerous challenges in their efforts to assist individuals with disabilities, particularly individuals with significant disabilities, to achieve employment outcomes.¹ These challenges include: Determining what criteria should be used to categorize individuals' disabilities as “most significant” or “significant” when implementing an order of selection; ² attracting and retaining qualified personnel; and evaluating the effectiveness of services provided. These challenges affect the ability of State VR agencies to pursue the overall goal of the VR Services program, which is to help persons with disabilities prepare for and engage in gainful employment.

¹ In the regulations for the Department's State VR program, an employment outcome is defined as entering or retaining full-time or, if appropriate, part-time competitive employment, as defined in 34 CFR 361.5(b)(11), in the integrated labor market, supported employment, or any other type of employment in an integrated setting, including self-employment, telecommunicating, or business ownership, that is consistent with an individual's strengths, resources, priorities, concerns, abilities, capabilities, interests, and informed choice (see 34 CFR 361.5(b)(16)).

² Federal law and regulations (section 101(a)(5) of the Act and 34 CFR 361.36) stipulate that if a State VR agency does not have the resources to serve all eligible VR consumers, it must serve first those who have “the most significant disabilities.”

Preliminary FY 2007 data from the Rehabilitation Services Administration's (RSA) Cumulative Caseload Report (RSA-113) show that approximately 981,054 individuals received VR services, including 346,835 individuals whose cases were closed after receiving services. Of individuals whose cases were closed, 205,448 (59.6 percent) achieved an employment outcome after receiving services through the State VR program.

It is important to note that, in FY 2006, 18 percent of State VR agencies failed to achieve the minimum required employment outcome rate of 55.8 percent among individuals served by the program, and there is significant variation among State VR agencies in key programmatic outcomes such as employment and cost per employment outcome. For example, in FY 2006, while four State VR agencies succeeded in obtaining employment outcomes for at least 70 percent of individuals served, approximately seven State VR agencies failed to obtain employment outcomes for half (50 percent) of the individuals served, and several State VR agencies failed to obtain employment outcomes for even 40 percent of the individuals served. Likewise, in FY 2006, the average cost per employment outcome for general and combined State VR agencies (excluding the outlying areas) ranged from approximately $5,215 to $34,414.

RSA monitoring reviews and reviews of annual State plans suggest that these differences in State outcomes may be attributable to differences in State VR agency management practices, particularly practices relating to planning, analysis, and use of data for making management decisions. Persistent State VR agency management-related needs include, at a minimum: Developing and implementing effective quality assurance processes; conducting high quality strategic planning; and improving the overall quality of human resource development and retention strategies. We believe that promoting improvement in these critical areas would enhance State agency capacity, increase the cost-effectiveness of service delivery mechanisms, and ultimately improve the ability of State VR agencies to achieve high quality employment outcomes for individuals with disabilities.

Section 101(a)(15) of the Act requires State VR agencies to engage in a variety of planning activities, including, but not limited to: Conducting a comprehensive statewide needs assessment every three years; identifying goals and priorities that the State VR agency will pursue in carrying out the program; describing strategies to address the needs identified in the comprehensive statewide needs assessment; and evaluating the effectiveness of the VR program, including whether the program goals were achieved and the extent to which specific strategies contributed to meeting these goals.

After reviewing FY 2007 and 2008 annual VR State plans, RSA recommended that 25 State VR agencies improve one or more of the following: The quality of their goals and strategies; the connection between the results of their comprehensive needs assessment and their goals and priorities; and the extent to which they evaluated the effectiveness of their strategies. In addition, of the 23 State VR agencies that RSA monitored in FY 2007, RSA determined that 17 (74 percent) need technical assistance (TA) in developing strategic goals.

Recent RSA monitoring also suggests that there is a great deal of variability in the effectiveness of State VR agency quality assurance (QA) systems, and that most State agency's QA systems need to be improved in several critical ways. For example, while the QA mechanisms in many State VR agencies examine documentation of services provided, few State QA systems use data to evaluate the quality of other aspects of service delivery and program performance.

In addition, section 101(a)(7) of the Act, containing the Comprehensive System of Personnel Development (CSPD), in part, requires State VR agencies to establish qualified personnel standards for rehabilitation personnel, including VR counselors, that are consistent with any national or State-approved or recognized certification, licensing, or registration that apply to a particular profession.

For years, the demand for new State VR agency counselors has far exceeded the supply. According to a study conducted in 2002 by the American Institutes for Research, A Profile of the Demand for and Supply of Qualified State Rehabilitation Counselors, (Chan & Ruedel, 2007), State VR agencies reported that they expected to lose approximately 43 percent of VR counselors through attrition or retirement by 2007. According to this same study, 27 percent of current State VR agency staff do not meet their State's CSPD personnel standards and require retraining, 88 percent of those who meet their State's personnel standards require continuing education to maintain their credentials, and rehabilitation training programs are producing only enough graduates to meet 30 percent of the need for new counselors.

During RSA's FY 2007 monitoring reviews, RSA identified needs in the following areas related to human resource management: Implementing the State's CSPD; developing training to improve staff skills in areas such as job placement; developing and implementing effective recruitment and retention strategies for qualified staff, including staff with diverse backgrounds; maintaining efficient caseload management strategies; and evaluating the relationship between staffing patterns and program performance.

During FY 2007 monitoring, State VR agencies overwhelmingly requested information regarding promising practices utilized by other State VR agencies that could be replicated in their own agencies to improve performance in human resource management. Among other things, they requested information on successful recruitment and retention strategies, and caseload management strategies.

NIDRR is proposing to establish a Research and Technical Assistance Center on Vocational Rehabilitation Program Management that will help State VR agencies improve their management in a number of areas, including quality assurance, strategic planning, and human resource development and retention.

References

Chan, T., & Ruedel, K. (2007). A Profile of the Demand for and Supply of Qualified State Rehabilitation Counselors. Washington, DC: U.S. Department of Education.

Proposed Priority

The Assistant Secretary for Special Education and Rehabilitative Services proposes a priority to establish, under the Disability and Rehabilitation Research Program (DRRP), a Research and Technical Assistance Center on Vocational Rehabilitation Program Management (Center). The Center must conduct research to develop a model of vocational rehabilitation (VR) program management, which must include a focus on quality assurance, strategic planning, and human resource management. The Center must then develop and test this model, and use it as the basis for training and technical assistance (TA) to improve management practices within individual State VR agencies.

Under this priority, the Center must be designed to contribute to the following outcomes:

(a) New knowledge of effective VR program management. The Center must contribute to this outcome by identifying effective VR program management practices, including at a minimum, practices in the areas of quality assurance, strategic planning, and human resource management. The Center's work in this area must be designed to result in knowledge that could be used to assist State VR agencies to—

• Develop agency goals and strategies, and evaluate progress made toward achieving these goals;

• Develop key performance measures and use performance data for program improvement;

• Develop methodologies to ensure that performance data are accurate and analyses of the data are sound;

• Implement effective quality assurance processes;

• Implement effective fiscal planning and accountability mechanisms;

• Implement effective employee training, staff development, and career development; and

• Implement effective leadership development and succession planning.

(b) A new evidence-based model of effective VR program management (VR Program Management Model). The Center must contribute to this outcome by partnering with approximately 5-10 State VR agencies to develop a VR Program Management Model that, to the maximum extent possible, is informed by evidence of the effectiveness of specific management practices. Applicants must describe in their applications the methods and criteria they will use to recruit and select State VR agencies with which they will partner (Partner State VR Agencies) for this activity. NIDRR will review and approve the final selection of Partner State VR Agencies. The Center must work with the Partner State VR Agencies to identify, describe, and document the components of the VR Program Management Model, which must include, at a minimum, quality assurance, strategic planning, and human resource management components.

(c) Enhanced VR program management through Implementation of the VR Program Management Model. The Center must contribute to this outcome by developing exemplars, tools, and guidance that other State VR agencies (i.e., State VR agencies that are not Partner State VR Agencies) can use to implement the VR Program Management Model within their unique contexts. The Center must provide training and TA to individual State VR agencies to facilitate the implementation of some or all of the components of the VR Program Management Model, depending on the unique needs of the agency's VR program.

In addition, the Center must—

• Disseminate TA materials that it has developed on program management topics under paragraph (c) of this priority to other projects that provide TA to State VR agencies (e.g., the Technical Assistance and Continuing Education (TACE) projects that RSA intends to fund in FY 2008).

• Coordinate TA with all entities that comprise the national VR TA network, including: the 10 regionally based TACE projects that RSA intends to fund in FY 2008 under title III of the Act; the IL-Net Training and Technical Assistance projects for centers for independent living and statewide independent living councils funded by RSA under title VII of the Act; the national VR TA center that RSA intends to fund in FY 2008 under section 12 of the Act; and NIDRR's Rehabilitation Research and Training Centers focused on employment. Coordination is intended to ensure consistency of TA provided nationally on VR program management.

• Each year after year one of the project period, plan to present findings at a three-day national conference of State VR administrators to be held in Washington, DC.

Proposed Priority 2—Center on the Effective Delivery of Rehabilitation Technology by State Vocational Rehabilitation Agencies To Improve Employment Outcomes.

Background

On February 1, 2001, President George W. Bush announced the New Freedom Initiative (NFI), a comprehensive strategy for the full integration of individuals with disabilities into all aspects of American life. Two key goals of the NFI are the integration of individuals with disabilities into the workplace, and the use of technology to increase access to school, work, and community life for individuals with disabilities. While many individuals with disabilities could benefit from greater access to technology, particularly rehabilitation technology (RT),³ for individuals with certain disabilities such access is essential to achieving and maintaining employment.

³ Under 34 CFR 361.5(b)(45) of the regulations for the State vocational rehabilitation (VR) program and consistent with section 7(30) of the Rehabilitation Act of 1973 as amended, 29 U.S.C. 705(30) (Act), RT means the systematic application of technologies, engineering methodologies, or scientific principles to meet the needs of and address the barriers confronted by individuals with disabilities in areas which include education, rehabilitation, employment, transportation, independent living, and recreation. The term includes rehabilitation engineering, assistive technology devices, and assistive technology services.

Despite the importance of RT, there has been limited research on its use in the workplace or its impact on employment outcomes (as the term is defined in 34 CFR 361.5(b)(16)) (Loprest, 2007).

Title I of the Act authorizes State VR agencies to provide RT to individuals who qualify for VR services. Specifically, when developing an individualized plan for employment (IPE), a VR counselor must consider an individual's need for RT. The Rehabilitation Services Administration (RSA) collects data about individuals served by State VR agencies and the RT services they receive. FY 2006 VR data from the RSA Case Service Report (RSA-911) show that 75 percent of individuals with disabilities who received RT achieved an employment outcome, while only 57 percent of individuals with disabilities who did not receive RT achieved an employment outcome. While these data indicate that individuals who receive RT as part of an IPE are more likely to achieve employment outcomes than those who do not, further study is needed to determine under what circumstances RT affects the achievement of employment outcomes for individuals served by employment and training programs.

Despite indications that RT services may play an important role in achieving employment outcomes, provision of RT services by State VR agencies varies significantly. In FY 2006, individual State VR agency expenditures for RT ranged from 0 percent to 14 percent of total expenditures; the median percentage of expenditures was 3.23 percent (Annual Vocational Rehabilitation Program/Cost Report (RSA-2)).

Variations in the provision of RT services among VR agencies may result from a number of factors. For example, there may be significant differences in the attitude toward, awareness of, and approach to RT among VR agency personnel; consumers who use RT consider such attitudes to be critical to employment outcomes. Unfortunately, most VR personnel's knowledge of RT is not as extensive as their knowledge of other areas of rehabilitation; therefore, ensuring that personnel have appropriate expertise in RT is an ongoing need for which employment and training programs must plan and budget (Institute on Rehabilitation Issues, 1998).

Similar to the lack of research on RT use in the workplace and its impact on employment outcomes, there is little research on the factors that create barriers to the successful provision of RT, or on strategies used in employment programs to overcome those barriers.

NIDRR is proposing to establish a Center on the Effective Delivery of Rehabilitation Technology by State Vocational Rehabilitation Agencies to Improve Employment Outcomes. This center will conduct research on the effective delivery of RT services in employment and training programs and disseminate information about this research to help State VR agencies improve their provision of effective RT services.

References

Loprest, P. (2007). Strategic Assessment of the State of the Science in Research on Employment for Individuals with Disabilities. Final Report to the National Institute on Disability and Rehabilitation Research, U.S. Department of Education.

Proceedings from the Twenty-fourth Institute on Rehabilitation Issues. (May, 1998). Achieving Successful Employment Outcomes With the Use of Assistive Technology. Menominee, WI: University of Wisconsin.

Proposed Priority

The Assistant Secretary for Special Education and Rehabilitative Services proposes a priority for a Disability and Rehabilitation Research Project (DRRP) to serve as the Center on the Effective Delivery of Rehabilitation Technology by State Vocational Rehabilitation Agencies to Improve Employment Outcomes (Center). The Center must conduct research to identify the policies, procedures, and practices that result in the effective delivery of rehabilitation technology (RT), as defined in 34 CFR 361.5(b)(45), by employment and training programs to assist individuals with disabilities to achieve employment outcomes, as defined in 34 CFR 361.5(b)(16). Under this priority, the Center must be designed to contribute to the following outcomes:

(a) New knowledge regarding models of effective RT service delivery. The Center must contribute to this outcome by identifying existing employment and training programs, including programs administered by State VR agencies, that effectively deliver RT services to assist individuals with disabilities achieve employment outcomes. Applicants must describe in their applications the methods and criteria they will use to identify and select the model employment and training programs. NIDRR will review and approve the final selection of the employment and training programs. The Center must work with the selected programs to identify, describe, and document the policies, procedures, and practices that result in effective RT service delivery.

(b) New knowledge of the systemic supports necessary for the effective delivery of RT services. The Center must contribute to this outcome by conducting research to identify the policies and practices of employment and training programs, including but not limited to those operated by State VR agencies, that support the effective use of RT to help individuals with disabilities achieve and maintain employment outcomes. The Center's work in this area must be designed to result in knowledge that assists employment and training programs to—

• Identify and assess the quality and effectiveness of their policies and practices related to the delivery of RT services;

• Change existing policies or develop new policies that are specifically designed to improve the delivery of RT services;

• Implement effective strategies to improve practices to support the delivery of RT services; and

• Develop and implement methodologies to collect data on the impact of RT services on employment outcomes.

(c) Enhanced knowledge of effective RT service delivery among administrators of State VR agencies and other employment and training programs for individuals with disabilities. The Center must contribute to this outcome by using the knowledge gained from the activities described in paragraphs (a) and (b) of this priority to develop exemplars, tools, and guidance that State VR agencies can use to implement changes to existing policies or develop new policies and practices within their unique contexts. The Center must disseminate these materials to State VR agencies and other employment and training programs for individuals with disabilities.

In addition, the Center must—

• In consultation with its NIDRR Project Officer, coordinate the Center's dissemination and outreach efforts with relevant training and technical assistance centers funded by OSERS. These training and technical assistance centers include the Research and Technical Assistance Center on Vocational Rehabilitation Program Management that NIDRR intends to fund in FY 2008; the 10 regionally based Technical Assistance and Continuing Education (TACE) projects that RSA intends to fund in FY 2008 under title III of the Act; the IL-Net Training and Technical Assistance projects for centers for independent living and statewide independent living councils funded by RSA under title VII of the Act; the national VR TA center that RSA intends to fund in FY 2008 under section 12 of the Act; NIDRR's Rehabilitation Research and Training Centers (RRTCs) focused on employment; the NIDRR network of Knowledge Translation grantees; the Department's Office of Special Education Programs' Technical Assistance and Dissemination Network and Technical Assistance Communities of Practice; the Department's Office of Vocational and Adult Education's National Research Center for Career and Technical Education; and programs sponsored through the U.S. Department of Labor's Office of Disability Employment Policy. The Center must coordinate with these entities, as appropriate, to disseminate the exemplars, tools, guidance, and knowledge developed through activities conducted under paragraphs (a), (b), and (c) of this priority to State VR agencies, employers, individuals with disabilities, and other entities that serve or employ individuals with disabilities;

• Share the exemplars, tools, guidance, and knowledge developed through activities conducted under paragraphs (a), (b), and (c) of this priority with appropriate RSA and NIDRR research and dissemination centers, including the National Center for the Dissemination of Disability Research, the Research Utilization Support and Help Project, and the Center for International Rehabilitation Research Information and Exchange; and

• Establish an advisory committee comprised of individuals who are knowledgeable about RT including researchers, State VR agency representatives, VR providers, employers, transition planners, secondary and postsecondary educators, individuals with disabilities, and parents of individuals with disabilities. This advisory committee must be designed to provide guidance to the Center on its research and TA activities.

• Each year after year one of the project period, plan to present findings at a three-day national conference of State VR administrators to be held in Washington, DC.

Executive Order 12866

This NPP has been reviewed in accordance with Executive Order 12866. Under the terms of the order, we have assessed the potential costs and benefits of this regulatory action.

The potential costs associated with this NPP are those resulting from statutory requirements and those we have determined as necessary for administering this program effectively and efficiently.

In assessing the potential costs and benefits—both quantitative and qualitative—of this NPP, we have determined that the benefits of the proposed priorities justify the costs.

Summary of Potential Costs and Benefits

The benefits of the Disability and Rehabilitation Research Projects and Centers Programs have been well established over the years in that similar projects have been completed successfully. These proposed priorities will generate new knowledge and technologies through research, development, dissemination, utilization, and technical assistance projects.

Another benefit of these proposed priorities is that the establishment of new DRRPs will support the President's NFI and will improve the lives of individuals with disabilities. The new DRRPs will generate, disseminate, and promote the use of new information that will improve the options for individuals with disabilities to perform regular activities in the community.

Intergovernmental Review

This program is not subject to Executive Order 12372 and the regulations in 34 CFR part 79.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects)

Program Authority: 29 U.S.C. 762(g) and 764(a).

Dated: May 27, 2008.
William W. Knudsen,
Deputy Assistant Secretary for Special Education and Rehabilitative Services.

[FR Doc. E8-12121 Filed 5-29-08; 8:45 am]

BILLING CODE 4000-01-P